ENVIRONMENTAL PROTECTION AGENCY

[FRL-8774-9]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 10-12, 2008 at The Arlington Court Suites, Arlington, VA. The CHPAC was created to advise the Environmental Protection Agency on science, regulations, and other issues relating to children's environmental health.

DATES: The CHPAC will meet on Tuesday, March 10, Wednesday, March 11, and Thursday, March 12, 2009 at The Arlington Court Suites.

ADDRESSES: The Arlington Court Suites, 1200 N Courthouse Road, Arlington, VA 22201.

FOR FURTHER INFORMATION CONTACT: Martha Berger, Child and Aging Health Protection Division, USEPA, MC 1107A, 1200 Pennsylvania Avenue, NW., Washington, DC 20460, (202) 564-2191, berger.martha@epa.gov.

SUPPLEMENTARY INFORMATION: The meetings of the CHPAC are open to the public. The CHPAC plenary will meet on Wednesday, March 11 from 8:30 a.m. to 5:30 p.m., and Thursday, March 12, from 8:30 a.m. to 12:30 p.m. The Task Groups will meet Tuesday, March 10, from 1 p.m. to 5 p.m. Agenda items include a discussion of the next edition of the America's Children and the Environment Report, a presentation on schools siting, and a presentation on PCBs and PBDEs.

Access and Accommodations: For information on access or services for individuals with disabilities, please contact Martha Berger at 202-564-2191 or berger.martha@epa.gov. To request accommodation of a disability, please contact Martha Berger preferably at least 10 days prior to the meeting, to give EPA as much time as possible to process your request.

Dated: February 17, 2009.
Martha Berger,
Designated Federal Official.

Draft Agenda

Tuesday, March 10, 2009 Task Group Session

9:30 a.m.-5 p.m. America's Children and the Environment Task Group Meeting.

Wednesday, March 11, 2009: CHPAC Plenary Session

8:30 a.m.-9 a.m. Welcome, Introductions, & Agenda Review.

9 a.m.-9:30 a.m. Highlights of Recent EPA Activities.

9:30 a.m.-10:30 a.m. America's Children and the Environment Report.

10:30 a.m.-10:45 a.m. Break.

10:45 a.m.-11:45 a.m. EPA Activities related to PCBs in old construction materials.

11:45 a.m.-12:45 p.m. Lunch.

12:45 p.m.-1:45 p.m. Climate Change and Children's Health: Discussion of Next Steps.

1:45 p.m.-2:45 p.m. Administrator Lisa Jackson (Invited).

2:45 p.m.-3 p.m. Break.

3 p.m.-4 p.m. Discussion of initial letter to Administrator Lisa Jackson.

4 p.m.-5 p.m. American's Children and the Environment Report.

5 p.m.-5:30 p.m. Public Comment.

5:30 p.m. Adjourn.

Thursday, March 12, 2009: CHPAC Plenary Session Continued

8 a.m.-8:30 a.m. Continental Breakfast and Gathering.

8:30 a.m.-8:45 a.m. Check In and Agenda Review.

8:45 a.m.-9:45 a.m. Update on PBDE Activities.

9:45 a.m.-10 a.m. Break.

10 a.m.-11 a.m. Presentation: EPA's Draft Model Guidelines for Siting of School Facilities.

11 a.m.-12 p.m. America's Children and the Environment Report.

12 p.m.-12:30 p.m. Wrap Up/Next Steps.

12:30 p.m. Adjourn.

[FR Doc. E9-3777 Filed 2-20-09; 8:45 am]

BILLING CODE 6560-50-P